DEPARTMENT OF HEALTH AND HUMAN SERVICES

National Institutes of Health

National Institute of Arthritis and Musculoskeletal and Skin Diseases; Amended Notice of Meeting

Notice is hereby given of a change in the meeting of the National Institute of Arthritis and Musculoskeletal and Skin Diseases Special Emphasis Panel, March 23, 2012, 9 a.m. to March 23, 2012, 5 p.m., National Institutes of Health, One Democracy Plaza, 6701 Democracy Boulevard, Bethesda, MD 20892 which was published in the Federal Register on February 17, 2012, FR 2012-3784.

This meeting will be held on March 21-22, 2012 instead of March 23, 2012. The meeting is closed to the public.

Dated: March 2, 2012.
Jennifer S. Spaeth,
Director, Office of Federal Advisory Committee Policy.

[FR Doc. 2012-5822 Filed 3-8-12; 8:45 am]

BILLING CODE 4140-01-P